DEPARTMENT OF AGRICULTURE

Submission for OMB Review; Comment Request

May 11, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Food Stamp Nutrition Connection Recipe Submission and Review Form.

OMB Control Number: 0518-NEW.

Summary of Collection: The National Agricultural Library's Food Stamp Nutrition Connection (FSNC) http://www.nal.usda.gov/foodstamp/ resource system has developed an on-line recipe database, the Recipe Finder, as an added feature to the FSNC Web site to be launched in the fiscal year 2005. The purpose of the recipe data base is to provide our target audience, Food Stamp Program nutrition educators, with low-cost, easy to prepare, healthy recipes for classes and demonstrations with Food Stamp Program participants. We rely on these same educators to submit their best recipes to us for review, analysis and posting in the database. Data collected using the “FSNC Recipe Review Form” will help identify the success or value of the nutrition education and budgeting tool with Food Stamp Program participants.

Need and Use of the Information: Food Stamp Program nutrition educators have the opportunity to submit recipes on-line saving the authors time while providing a fast and accurate vehicle in which to communicate with the authors. At the same time, submitted recipes will be reviewed for the purposes of ensuring that only high quality information remains in the database. The information will be collected electronically. If this collection was not conducted, it would inhibit the ability of the target audience to participate in a valuable resource that will assist them and in turn the Food Stamp Program participant.

Description of Respondents: Not-for Profit Institutions; Business or other for-profit; Federal Government, and State, local or tribal government.

Number of Respondents: 150.

Frequency of Responses: Reporting: Annually.

Total Burden Hours: 30.

Charlene Parker,
Departmental Information Collection Clearance Officer.

[FR Doc. 05-9742 Filed 5-16-05; 8:45 am]

BILLING CODE 3410-03-P